DEPARTMENT OF COMMERCE

International Trade Administration

[A-552-803]

Uncovered Innerspring Units From the Socialist Republic of Vietnam: Preliminary Results of the Antidumping Duty Administrative Review; 2018-2019

AGENCY: Enforcement and Compliance, International Trade Administration, Department of Commerce.

SUMMARY: The Department of Commerce (Commerce) preliminarily determines that the sole company subject to this administrative review is part of the Vietnam-wide entity because it did not file a separate rate application (SRA). The period of review (POR) is December 1, 2018 through November 31, 2019. We invite interested parties to comment on these preliminary results.

DATES: Applicable July 1, 2020.

FOR FURTHER INFORMATION CONTACT: Shanah Lee, AD/CVD Operations, Office III, Enforcement and Compliance, International Trade Administration, U.S. Department of Commerce, 1401 Constitution Avenue NW, Washington, DC 20230; telephone: (202) 482-6386.

SUPPLEMENTARY INFORMATION:

Background

On December 6, 2019, Commerce published a notice of opportunity to request an administrative review of the antidumping duty order on uncovered innerspring units from the Socialist Republic of Vietnam (Vietnam).¹ In response, on December 31, 2019, Leggett & Platt, Incorporated (the petitioner) requested a review of one company, Angkor Spring Co., Ltd. (Angkor Spring).² Commerce initiated a review of this company on February 6, 2020.³ The deadline for interested parties to submit an SRA or separate rate certification (SRC) was March 9, 2020.⁴ No party submitted an SRA or an SRC. On March 26, 2020, Commerce placed U.S. Customs and Border Protection (CBP) data on the record of this review demonstrating that there were no entries of subject merchandise during the POR.⁵ We asked interested parties to file comments on this data by April 2, 2020. The petitioner submitted comments on the CBP data on April 2, 2020.⁶

¹ See Antidumping or Countervailing Duty Order, Finding, or Suspended Investigation; Opportunity to Request Administrative Review, 84 FR 66880 (December 6, 2019).

² See Petitioner's Letter, “Uncovered Innerspring Units from the Socialist Republic of Vietnam: Request for Antidumping Duty Administrative Review,” dated December 31, 2019.

³ See Initiation of Antidumping Duty and Countervailing Duty Administrative Reviews, 85 FR 6896 (February 6, 2020) (Initiation Notice).

⁴ SRAs and SRCs were due thirty days from the publication of Commerce's Initiation Notice. In this administrative review, the deadline was March 7, 2020, a Saturday. Because the deadline fell on a weekend, according to Commerce's “Next Business Day” rule, the deadline was moved forward to the next business day, Monday, March 9, 2020. See Notice of Clarification: Application of “Next Business Day” Rule for Administrative Determination Deadlines Pursuant to the Tariff Act of 1930, As Amended, 70 FR 24533 (May 10, 2005).

⁵ See Memorandum, “2018-2019 Administrative Review of the Antidumping Duty Order on Uncovered Innerspring Units from the Socialist Republic of Vietnam,” dated March 26, 2020.

⁶ See Petitioner's Letter, “Uncovered Innerspring Units from the Socialist Republic of Vietnam: Comments on CBP Data,” dated April 2, 2020.

Scope of the Order

The merchandise subject to this order is uncovered innerspring units composed of a series of individual metal springs joined together in sizes corresponding to the sizes of adult mattresses (e.g., twin, twin long, full, full long, queen, California king and king) and units used in small constructions, such as crib and youth mattresses. All uncovered innerspring units are included in the scope regardless of width and length. Including within this definition are innersprings typically raining from 30.5 inches to 76 inches in width and 68 inches to 84 inches in length. Innerspring for crib mattresses typically range from 25 inches to 27 inches in width and 50 inches to 52 inches in length.

Uncovered innerspring units are suitable for use as the innerspring component in the manufacture of innerspring mattresses, including mattresses that incorporate a foam encasement around the innerspring.

Pocketed and non-pocketed innerspring units are included in this definition. Non-pocketed innersprings are typically joined together with helical wire and border rods. Non-pocketed innersprings are included in this definition regardless of whether they have border rods attached to the perimeter of the innerspring. Pocketed innersprings are individual coils covered by a “pocket” or “sock” of a nonwoven synthetic material or woven material and then glued together in a linear fashion.

Uncovered innersprings are classified under subheading 9404.29.9010 and have also been classified under subheadings 9404.10.0000, 9404.29.9005, 9404.29.9011, 7326.20.0070, 7326.20.0090, 7320.20.5010, 7320.90.5010, or 7326.20.0071 of the Harmonized Tariff Schedule of the United States (HTSUS).⁷ The HTSUS subheadings are provided for convenience and customs purposes only; the written description of the scope of the order is dispositive.

⁷ Based on a recommendation by CBP, on September 15, 2017, Commerce added HTS 7326.20.0090 to the scope. See Memorandum, “Request from Customs and Border Protection to Update the ACE AD/CVD Case Reference File,” dated September 15, 2017 (Barcode 3622582-01).

Methodology

Commerce is conducting this review in accordance with section 751(a)(1)(B) of the Tariff Act of 1930, as amended (the Act), and 19 CFR 351.213.

Preliminary Results of Review

Angkor Spring, the sole company subject to this review, did not file an SRA. Thus, Commerce preliminarily determines that this company has not demonstrated its eligibility for separate rate status. As such, Commerce preliminarily determines that the company subject to this review is part of the Vietnam-wide entity. In addition, Commerce no longer considers the non-market economy (NME) entity as an exporter conditionally subject to an antidumping duty administrative review.⁸ Accordingly, the NME entity will not be under review unless Commerce specifically receives a request for, or self-initiates, a review of the NME entity. In this administrative review, no party requested a review of the Vietnam-wide entity. Moreover, we have not self-initiated a review of the Vietnam-wide entity. Because no review of the Vietnam-wide entity is being conducted, the Vietnam-wide entity's entries are not subject to the review, and the rate applicable to the NME entity is not subject to change as a result of this review. The Vietnam-wide entity rate is 116.31 percent.⁹

⁸ See Antidumping Proceedings: Announcement of Change in Department Practice for Respondent Selection in Antidumping Duty Proceedings and Conditional Review of the Nonmarket Economy Entity in NME Antidumping Duty Proceedings, 78 FR 65963, 65970 (November 4, 2013).

⁹ See Antidumping Duty Order: Uncovered Innerspring Units from the Socialist Republic of Vietnam, 73 FR 75391, 75392 (December 11, 2008).

Public Comment

Interested parties are invited to comment on the preliminary results and may submit case briefs and/or written comments, filed electronically via Enforcement and Compliance's Antidumping Duty and Countervailing Duty Centralized Electronic Service System (ACCESS), within 30 days after the date of publication of these preliminary results of review.¹⁰ ACCESS is available to registered users at https://access.trade.gov. Rebuttal briefs, limited to issues raised in the case briefs, must be filed within seven days after the time limit for filing case briefs.¹¹ Parties who submit case or rebuttal briefs in this proceeding are requested to submit with each argument a statement of the issue, a brief summary of the argument, and a table of authorities.¹² Note that Commerce has temporarily modified certain portions of its requirements for serving documents containing business proprietary information, until July 17, 2020, unless extended.¹³

¹⁰ See 19 CFR 351.309(c)(1)(ii).

¹¹ See 19 CFR 351.309(d)(1) and (2); see also Temporary Rule Modifying AD/CVD Service Requirements Due to COVID-19, 85 FR 17006 (March 26, 2020) (“To provide adequate time for release of case briefs via ACCESS, E&C intends to schedule the due date for all rebuttal briefs to be 7 days after case briefs are filed (while these modifications are in effect).”); and Temporary Rule Modifying AD/CVD Service Requirements Due to COVID-19; Extension of Effective Period, 85 FR 29615 (May 18, 2020) (Temporary Rule).

¹² See 19 CFR 351.309(c) and (d); see also 19 CFR 351.303 (for general filing requirements).

¹³ See Temporary Rule.

Interested parties who wish to request a hearing, or to participate if one is requested, must submit a written request to Commerce within 30 days of the date of publication of this notice.¹⁴ Requests should contain: (1) The party's name, address, the telephone number; (2) the number of participants; and (3) a list of issues to be discussed. Issues raised in the hearing will be limited to those raised in the respective case and rebuttal briefs. If a request for a hearing is made, parties will be notified of the time and date for the hearing to be held.¹⁵ Commerce intends to issue the final results of this administrative review, which will include the results of our analysis of all issues raised in the case briefs, within 120 days of publication of these preliminary results in the Federal Register, unless extended, pursuant to section 751(a)(3)(A) of the Act.

¹⁴ See 19 CFR 351.310(c).

¹⁵ See 19 CFR 351.310(d).

Assessment Rates

Upon issuance of the final results of this review, Commerce will determine, and CBP will shall assess, antidumping duties on all appropriate entries of subject merchandise covered by this review.¹⁶ We intend to instruct CBP to liquidate entries containing subject merchandise exported by the company under review that we determine in the final results to be part of the Vietnam-wide entity at the Vietnam-wide entity rate of 116.31 percent. Commerce intends to issue assessment instructions to CBP 15 days after the date of publication of the final results of this review in the Federal Register.¹⁷

¹⁶ See 19 CFR 351.212(b)(1).

¹⁷ For a full discussion of this practice, see Non-Market Economy Antidumping Proceedings: Assessment of Antidumping Duties, 76 FR 65694 (October 24, 2011).

Cash Deposit Requirements

The following cash deposit requirements will be effective upon publication of the final results of this review for shipments of the subject merchandise from Vietnam entered, or withdrawn from warehouse, for consumption on or after the publication date, as provided by sections 751(a)(2)(C) of the Act: (1) For companies that have a separate rate, the cash deposit rate will be that established in the final results of this review (except, if the rate is zero or de minimis, then zero cash deposit will be required); (2) for previously investigated or reviewed Vietnamese or non-Vietnamese exporters not listed above that received a separate rate in a prior segment of this proceeding, the cash deposit rate will continue to be the existing exporter-specific rate; (3) for all Vietnamese exporters of subject merchandise that have not been found to be entitled to a separate rate, the cash deposit rate will be that for the Vietnam-wide entity (i.e., 116.31 percent); and (4) for all non-Vietnamese exporters of subject merchandise which have not received their own rate, the cash deposit rate will be the rate applicable to the Vietnamese exporter that supplied that non-Vietnamese exporter. These deposit requirements, when imposed, shall remain in effect until further notice.

Notification to Importers

This notice also serves as a reminder to importers of their responsibility under 19 CFR 315.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these preliminary results in accordance with sections 751(a)(1) and 777(i) of the Act, and 19 CFR 351.213(h) and 351.221(b)(4).

Dated: June 23, 2020.
Jeffrey I. Kessler,
Assistant Secretary for Enforcement and Compliance.

[FR Doc. 2020-14037 Filed 6-30-20; 8:45 am]

BILLING CODE 3510-DS-P